DEPARTMENT OF COMMERCE

National Oceanic and Atmospheric Administration

Final Management Plan and Environmental Assessment for Thunder Bay National Marine Sanctuary: Notice of Public Availability

AGENCY: Office of National Marine Sanctuaries (ONMS), National Ocean Service (NOS), National Oceanic and Atmospheric Administration (NOAA), Department of Commerce (DOC).

ACTION: Notice of public availability.

SUMMARY: In accordance with section 304(e) of the National Marine Sanctuaries Act (NMSA), as amended, NOAA is releasing the Final Management Plan and Environmental Assessment for Thunder Bay National Marine Sanctuary.

DATES: The Final Management Plan and Environmental Assessment for Thunder Bay National Marine Sanctuary will be available on August 25, 2009.

ADDRESSES: To obtain a copy: For a copy of the Final Management Plan and Environmental Assessment, please contact Tera Panknin, Management Plan Review Coordinator, Thunder Bay National Marine Sanctuary, 500 W. Fletcher Street, Alpena, MI 49707; (989) 356-8805 ext. 38; or via e-mail at TBMPR@noaa.gov. Copies can also be downloaded from the Thunder Bay NMS Web site at http://thunderbay.noaa.gov.

FOR FURTHER INFORMATION CONTACT: Tera Panknin at (989) 356-8805 ext. 38 or via e-mail at TBMPR@noaa.gov.

SUPPLEMENTARY INFORMATION:

I. Background Information

Thunder Bay was designated in 2000 as the nation's thirteenth national marine sanctuary. It is jointly managed by NOAA and the State of Michigan. It was designated to preserve nationally significant shipwrecks and regional maritime landscape through resource protection, education, and research.

Thunder Bay NMS's first management plan review began in September 2006 with public scoping meetings, followed by meetings of working groups made up of sanctuary staff, sanctuary advisory council members, and members of the public to developed action plans of the management plan.

NOAA released a draft revised management plan on February 24, 2009 (74 FR 8231) and accepted comments through April 10, 2009. During this time, NOAA held four public meetings in Rogers City, MI (March 18, 2009), Harrisville, MI (March 19, 2009), Lansing, MI (March 20, 2009), and Alpena, MI (March 24, 2009). A total of 24 people provided oral comments at those meetings, and 23 people submitted written comments on the draft revised management plan for a total of 61 individual comments. Each of these comments are addressed in the Response to Comments document.

II. Summary of the Final Management Plan

The core of the Final Management Plan is four action plans: Resource Protection, Education and Outreach, Research, and Sanctuary Operations and Administration. Each is summarized below:

A. Resource Protection Action Plan

This action plan involves considering the need for boundary expansion, assessing recreational use of the sanctuary, increasing compliance with regulations, fostering greater awareness of the sanctuary by recreational users, and preserving maritime heritage artifacts.

B. Education and Outreach Action Plan

The second action plan involves developing education material for a broader audience, increasing awareness of the sanctuary through education programs, enhancing sanctuary communications with other entities, maintaining a sanctuary presence in the community, and maximizing the effects of education through ongoing evaluation.

C. Research Action Plan

The third action plan involves characterizing the sanctuary's maritime heritage resources and landscape features, developing a monitoring program for sanctuary maritime heritage sites, continuing partnership with Alpena County Public Library to manage the Thunder Bay Sanctuary Research Collection, developing partnerships with local, national, and international researchers and organizations, and utilizing volunteers, fellows, students, and interns for sanctuary characterization, research, and monitoring.

D. Sanctuary Operations and Administration Action Plan

The fourth and final action plan involves developing infrastructure to enhance and maintain the Great Lakes Maritime Heritage Center and for research vessels, equipment, and field operations; hiring staff; enhancing operation of the Thunder Bay Sanctuary Advisory Council; and developing procedures to ensure safety for staff and sanctuary visitors.

III. Environmental Assessment

NOAA prepared an environmental assessment that analyzes the environmental impacts of the revised management plan pursuant to the National Environmental Policy Act. In doing so, the environmental assessment analyzes two alternatives: The status quo (no change to the 1999 management plan) and the preferred alternative (revising the 1999 management plan). Included with the environmental assessment is NOAA's finding of no significant impact.

Dated: August 17, 2009.
Daniel J. Basta,
Director, Office of National Marine Sanctuaries.

[FR Doc. E9-20332 Filed 8-21-09; 8:45 am]

BILLING CODE 3510-NK-P